Memorandum of January 21, 2021

Memorandum To Extend Federal Support to Governors' Use of the National Guard To Respond to COVID-19 and To Increase Reimbursement and Other Assistance Provided to States

Memorandum for the Secretary of Defense [and] the Secretary of Homeland Security

By the authority vested in me as President by the Constitution and the laws of the United States of America, including the Robert T. Stafford Disaster Relief and Emergency Assistance Act, 42 U.S.C. 5121-5207 (the “Stafford Act”), and section 502 of title 32, United States Code, I hereby order as follows:

Section 1. Policy. Consistent with the nationwide emergency declaration concerning the coronavirus disease 2019 (COVID-19) pandemic on March 13, 2020, it is the policy of my Administration to combat and respond to COVID-19 with the full capacity and capability of the Federal Government to protect and support our families, schools, and businesses, and to assist State, local, Tribal, and territorial governments to do the same, to the extent authorized by law.

Sec. 2. Support of Operations or Missions to Prevent and Respond to the Spread of COVID-19. (a) The Secretary of Defense shall, to the maximum extent feasible and consistent with mission requirements (including geographic proximity), request pursuant to 32 U.S.C. 502(f) that all State and territorial governors order National Guard forces to perform duty to fulfill mission assignments, on a fully reimbursable basis, that the Federal Emergency Management Agency (FEMA) issues to the Department of Defense for the purpose of supporting State, local, Tribal, and territorial emergency assistance efforts under the Stafford Act.

(b) FEMA shall fund 100 percent of the cost of activities associated with all mission assignments for the use of the National Guard under 32 U.S.C. 502(f) to respond to COVID-19, as authorized by sections 403 (42 U.S.C. 5170b), 502 (42 U.S.C. 5192), and 503 (42 U.S.C. 5193) of the Stafford Act.

(c) This section supersedes prior Presidential Memoranda requesting the use of the National Guard to respond to the COVID-19 emergency to the extent they are inconsistent with this memorandum.

Sec. 3. Assistance for Category B Emergency Protective Measures. (a) In accordance with sections 403 (42 U.S.C. 5170b) and 502 (42 U.S.C. 5192) of the Stafford Act, FEMA shall, as appropriate and consistent with applicable law, make available under Category B of the Public Assistance program such assistance as may be required by States (including territories and the District of Columbia), local governments, and Tribal governments to provide for the safe opening and operation of eligible schools, child-care facilities, healthcare facilities, non-congregate shelters, domestic violence shelters, transit systems, and other eligible applicants. Such assistance may include funding for the provision of personal protective equipment and disinfecting services and supplies.

(b) FEMA shall make assistance under this section available at a 100 percent Federal cost share until September 30, 2021.

Sec. 4. Advanced Reimbursement. To make reimbursements for approved work under the Stafford Act to respond to COVID-19 available more quickly, FEMA shall expedite reimbursement for eligible emergency work projects and, as appropriate and consistent with applicable law, provide an advance of the Federal share on a percentage of the expected reimbursement from FEMA-approved projects.

Sec. 5. One-Hundred Percent Cost Share Termination. The 100 percent Federal cost share for use of National Guard forces authorized by section 2(b) of this memorandum shall extend to, and shall be available for, orders of any length authorizing duty through September 30, 2021.

Sec. 6. General Provisions. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

(d) The Secretary of Defense is authorized and directed to publish this memorandum in the Federal Register.

THE WHITE HOUSE,

Washington, January 21, 2021

[FR Doc. 2021-02043

Filed 1-27-21; 11:15 am]

Billing code 5001-06-P